ENVIRONMENTAL PROTECTION AGENCY

[FRL OPRM-FAD-212]

Environmental Impact Statements; Notice of Availability

Responsible Agency: Office of Federal Activities, General Information 202-993-3272 or https://www.epa.gov/nepa.

Weekly receipt of Environmental Impact Statements (EIS)

Filed February 13, 2026 10 a.m. EST Through February 23, 2026 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20260016, Draft Supplement, USAF, USA, USCG, USN, GU, Mariana Islands Training and Testing, Comment Period Ends: 05/01/2026, Contact: Brian Whitehouse 808-471-4696.

EIS No. 20260017, Final, BLM, NV, Silver Peak Lithium Operation Expansion Project, Contact: Scott Distel 775-861-6476.

EIS No. 20260018, Final, BLM, NV, GridLiance West Core Upgrades Transmission Project Final EIS and RMP Amendment, Review Period Ends: 03/30/2026, Contact: Whitney Wirthlin 702-515-5117.

Dated: February 23, 2026.
Nancy Abrams,
Deputy Director, Federal Activities Division.

[FR Doc. 2026-03959 Filed 2-26-26; 8:45 am]

BILLING CODE 6560-50-P